DEPARTMENT OF LABOR

Employment and Training Administration

[TA-W-39,453]

The Arnold Engineering Company, Ferrite Products Division, Sevierville, Tennessee; Notice of Affirmative Determination Regarding Application for Reconsideration

By letter of October 19, 2001, a company requested administrative reconsideration of the Department of Labor's Notice of Negative Determination Regarding Eligibility to Apply for Worker Adjustment Assistance, applicable to workers of the subject firm. The denial notice was signed on September 25, 2001, and published in the Federal Register on October 11, 2001 (66 FR 51973).

The company supplied an additional list of customers. The company believes these customers reduced their purchases from the subject plant and began importing ceramic hard ferrite magnets during the relevant time period. The Department of Labor will conduct a survey of these additional customers to determine if imports contributed importantly to the declines in employment at the subject plant.

Conclusion

After careful review of the application, I conclude that the claim is of sufficient weight to justify reconsideration of the Department of Labor's prior decision. The application is, therefore, granted.

Signed at Washington, DC, this 18th day of January, 2002.
Edward A. Tomchick,
Director, Division of Trade Adjustment Assistance.

[FR Doc. 02-2689 Filed 2-4-02; 8:45 am]

BILLING CODE 4510-30-M